DEPARTMENT OF ENERGY

Federal Energy Regulatory Commission

[Docket Nos. EL00-95-000, EL00-98-000, EL00-107-000, ER00-3461-000, ER00-3673-000.

San Diego Gas & Electric Company, Complaint, v. Sellers of Energy and Ancillary Services Into Markets Operated by the California Independent System Operator and the California Power Exchange, Respondents; Investigation of Practices of the California Independent System Operator and the California Power Exchange; Public Meeting in San Diego, California; California Power Exchange Corporation; California Independent System Operator Corporation; Notice of Public conference

November 7, 2000.

Notice is hereby given that, on November 14, 2000, the Federal Energy Regulatory Commission will convene a public conference before the Chairman and Commission staff in San Diego. This conference supplements the Commission's November 9, 2000 conference, and it is being held primarily to accord an opportunity to citizens of San Diego, and others who are unable to attend the November 9, 2000, meeting, to address the impacts on ratepayers of the Commission's proposed remedies for California wholesale electric markets, as set forth in the Commission's order dated November 1, 2000. The conference will commence at 8 a.m. and close at 12 noon. All interested persons may attend the conference.

Persons wishing to speak at the conference must submit a request to make a statement in the above-captioned dockets. The request should be submitted by e-mail to David Boergers at david.boergers@ferc.fed.us (include Docket No. EL00-95-000 in the subject heading of the e-mail), and should be followed up, at the same time, with a letter to the Secretary of the Commission. The request should clearly specify the name of the person desiring to speak, his or her title and affiliation, and the party or parties the speaker represents. In addition, the request should include a telephone number for notifying the speaker. The request should also include a brief summary of the issue or issues the speaker wishes to address, not to exceed one page. All e-mail requests must be submitted on or before November 9, 2000.

The number of persons desiring to speak at the conference may exceed the time available. Thus, interested persons are encouraged to join with other persons with similar interests. Based on the requests to participate, panels of speakers will be specified. The Secretary will issue a notice listing the speakers and panels for the conference.

In addition, all interested persons are invited to submit written comments on matters addressed at the conference. These comments should be submitted on or before November 22, 2000, in the above-captioned proceedings. All comments will be placed in the Commission's public files and will be available for inspection or copying in the Commission's Public Reference Room during normal business hours. Comments are also accessible via the Commission's Records Information Management System (RIMS).

The conference will be transcribed. Information about obtaining transcripts will be provided on the Commission's website, www.ferc.fed.us.

David P. Boergers,
Secretary.

[FR Doc. 00-29018 Filed 11-13-00; 8:45 am]

BILLING CODE 6717-01-M